Proclamation 9498 of September 16, 2016

National Farm Safety and Health Week, 2016

By the President of the United States of America

A Proclamation

For generations, farmers and ranchers have formed the backbone of our economy and shaped the course of our Nation. They have served as critical stewards of our environment and natural resources. Toiling day in and day out in rural communities across our country, their dedication and dogged work ethic provide us with food, fuel, and other necessities, sustaining our people and our communities. Throughout National Farm Safety and Health Week, we honor their significant contributions by reaffirming our commitment to bolstering programs and practices that promote health and safety on America's farms.

Millions of farmers and their families face a variety of unsafe conditions when they wake up for work each morning. Extreme weather, and exposure to livestock or hazardous chemicals can pose threats to their safety. Much of their work takes place in dangerous environments and with potentially harmful equipment, such as wells, silos, and grain bins. And putting in long hours of physical labor can also cause illness or injury. Our farmers and ranchers are exposed to too many of these dangers, and we must ensure they are equipped with the tools, trainings, and resources they need to take proper precautions and safety measures in their workplaces.

To reduce work-related accidents and deaths among farming communities, my Administration has encouraged regular participation in health and safety programs. Increasing awareness of proper procedures is crucial, and farmers and farmworkers can improve their safety practices by correctly handling materials and inspecting machinery, paying careful attention to instructions and labels on products and equipment, and practicing and communicating plans for emergency response. Because many farms and ranches are family businesses, we have partnered with people across our country to help formalize youth farm safety education to improve farm safety for children.

The best farmers in the world have enriched our Nation and driven our agriculture sector forward; it is our shared duty to ensure their health and safety, because we all have a stake in the well-being of those who provide us with food and energy. By maintaining safe work environments and taking steps to practice caution on our farms, we can minimize risks and increase productivity in one of the greatest and most essential industries in America.

NOW, THEREFORE, I, BARACK OBAMA, President of the United States of America, by virtue of the authority vested in me by the Constitution and the laws of the United States, do hereby proclaim September 18 through September 24, 2016, as National Farm Safety and Health Week. I call upon the agencies, organizations, businesses, and extension services that serve America's agricultural workers to strengthen their commitment to promoting farm safety and health programs. I also urge Americans to honor our agricultural heritage and express appreciation to our farmers, ranchers, and farmworkers for their contributions to our Nation.

IN WITNESS WHEREOF, I have hereunto set my hand this sixteenth day of September, in the year of our Lord two thousand sixteen, and of the Independence of the United States of America the two hundred and forty-first.

[FR Doc. 2016-22959

Filed 9-21-16; 8:45 am]

Billing code 3295-F6-P